DEPARTMENT OF COMMERCE

International Trade Administration

[A-489-822]

Welded Line Pipe From the Republic of Turkey: Final Results of Antidumping Duty Administrative Review and Final Determination of No Shipments; 2020-2021

AGENCY: Enforcement and Compliance, International Trade Administration, Department of Commerce.

SUMMARY: The U.S. Department of Commerce (Commerce) determines that Cimtas Boru Imalatlari ve Ticaret, Ltd. Sti. (Cimtas) had no shipments of subject merchandise during the period of review (POR), December 1, 2020, through November 30, 2021.

DATES: Applicable November 15, 2022.

FOR FURTHER INFORMATION CONTACT: Christopher Hargett, AD/CVD Operations, Office II, Enforcement and Compliance, International Trade Administration, U.S. Department of Commerce, 1401 Constitution Avenue NW, Washington, DC 20230; telephone: (202) 482-4161.

SUPPLEMENTARY INFORMATION:

Background

On August 30, 2022, Commerce published its preliminary determination of no shipments with respect to Cimtas in the Federal Register and invited comments from interested parties.¹ No interested party submitted comments. Accordingly, no decision memorandum accompanies this Federal Register notice. Commerce conducted this review in accordance with section 751 of the Tariff Act of 1930, as amended (the Act).

¹ See Welded Line Pipe from the Republic of Turkey: Preliminary Determination of No Shipments and Partial Rescission of the Antidumping Duty Administrative Review; 2020-2021, 87 FR 52911 (August 30, 2022) (Preliminary Results). In the Preliminary Results, we also rescinded this review with respect to 18 companies for which the request for review was withdrawn; thus, Cimtas is the sole remaining respondent.

Scope of the Order

The products covered by the order are circular welded carbon and alloy steel (other than stainless steel) pipe of a kind used for oil or gas pipelines (welded line pipe), not more than 24 inches in nominal outside diameter, regardless of wall thickness, length, surface finish, end finish, or stenciling. Welded line pipe is normally produced to the American Petroleum Institute (API) specification 5L, but can be produced to comparable foreign specifications, to proprietary grades, or can be non-graded material. All pipe meeting the physical description set forth above, including multiple-stenciled pipe with an API or comparable foreign specification line pipe stencil is covered by the scope of this order.

The welded line pipe that is subject to the order is currently classifiable in the Harmonized Tariff Schedule of the United States (HTSUS) under subheadings 7305.11.1030, 7305.11.5000, 7305.12.1030, 7305.12.5000, 7305.19.1030, 7305.19.5000, 7306.19.1010, 7306.19.1050, 7306.19.5110, and 7306.19.5150. The subject merchandise may also enter in HTSUS 7305.11.1060 and 7305.12.1060. While the HTSUS subheadings are provided for convenience and customs purposes, the written description of the scope of the order is dispositive.

Final Determination of No Shipments

In the Preliminary Results, Commerce determined that the sole respondent in this administrative review, Cimtas, had no shipments and, therefore, no reviewable entries, of subject merchandise during the POR.² This determination was based on a response of the U.S. Customs and Border Protection (CBP) to Commerce's no-shipment inquiry, as well as certifications and supporting documentation provided by Cimtas.³ We received no comments from interested parties with respect to this record information or the preliminary finding of no shipments for Cimtas. Therefore, because the record indicates that this company did not export subject merchandise to the United States during the POR, we continue to find that Cimtas had no reviewable transactions during the POR.

² Id., 87 FR at 52912.

³ Id.

Assessment Rates

Consistent with Commerce's practice, we intend to instruct CBP to liquidate any existing entries of merchandise produced by Cimtas, but exported by other parties, at the rate for the intermediate reseller, if available, or at the all-others rate.⁴

⁴ See, e.g., Magnesium Metal from the Russian Federation: Preliminary Results of Antidumping Duty Administrative Review, 75 FR 26922, 26923 (May 13, 2010), unchanged in Magnesium Metal from the Russian Federation: Final Results of Antidumping Duty Administrative Review, 75 FR 56989 (September 17, 2010).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Because we find that Cimtas had no shipments during the POR, there will be no change to the existing cash deposit requirements. Accordingly, Cimtas's current cash deposit requirements shall remain in effect until further notice.

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Administrative Protective Order

This notice serves as the only reminder to parties subject to an administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

This notice is issued and published in accordance with sections 751(a)(1) and 777(i) of the Act and 19 CFR 351.213(h).

Dated: November 8, 2022.
Lisa W. Wang,
Assistant Secretary for Enforcement and Compliance.

[FR Doc. 2022-24841 Filed 11-14-22; 8:45 am]

BILLING CODE 3510-DS-P